DEPARTMENT OF LABOR

Employment and Training Administration

[TA-W-37,955]

J.A. Thurston Co., Inc., Now Known as Saunders Brothers Rumford, Rumford, ME; Amended Certification Regarding Eligibility To Apply for Worker Adjustment Assistance

In accordance with Section 223 of the Trade Act of 1974 (19 U.S.C. 2273) the Department of Labor issued a Certification of Eligibility To Apply for Worker Adjustment Assistance on August 28, 2000, applicable to workers of J.A. Thurston Co., Inc., Rumford, Maine. The notice was published in the Federal Register on September 22, 2000 (65 FR 57386).

At the request of the State agency, the Department reviewed the certification for workers of the subject firm. The workers are engaged in the production of dowels. The company reports that in April, 2001, Saunders Brothers purchased J.A. Thurston Co., Inc., and became known as Saunders Brothers Rumford.

Information also shows that workers separated from employment at the subject firm, had their wages reported under a separate unemployment insurance (UI) tax account for Saunders Brothers Rumford.

Accordingly, the Department is amending the certification determination to properly reflect this matter.

The intent of the Department's certification is to include all workers of J.A. Thurston Co., Inc., now known as Saunders Brothers Rumford who were adversely affected by increased imports.

The amended notice applicable to TA-W-37,955 is hereby issued as follows:

All workers of J.A. Thurston Co., Inc., now known as Saunders Brothers Rumford, Rumford, Maine who became totally or partially separated from employment on or after August 4, 1999, through August 28, 2002, are eligible to apply for adjustment assistance under Section 223 of the Trade Act of 1974.

Signed at Washington, DC this 13th day of August, 2001.
Linda G. Poole,
Certifying Officer, Division of Trade Adjustment Assistance.

[FR Doc. 01-21841 Filed 8-28-01; 8:45 am]

BILLING CODE 4510-30-M